DEPARTMENT OF HOMELAND SECURITY

[Docket No. DHS-2024-0003]

Faith-Based Security Advisory Council

AGENCY: The Office of Partnership and Engagement (OPE), The Department of Homeland Security (DHS).

ACTION: Notice of new taskings for the Faith-Based Security Advisory Council (FBSAC).

SUMMARY: On January 5, 2024, the Secretary of DHS, Alejandro N. Mayorkas, issued a memorandum tasking the Faith-Based Security Advisory Council (FBSAC) to establish two subcommittees further outlined below. This notice is not a solicitation for membership.

FOR FURTHER INFORMATION CONTACT: Sameer Hossain, Designated Federal Officer, Faith-Based Security Advisory Council of Department of Homeland Security, at FBSAC@hq.dhs.gov or 202-891-2876.

SUPPLEMENTARY INFORMATION: The FBSAC provides organizationally independent, strategic, timely, specific, and actionable advice to the Secretary through the OPE Assistant Secretary, who serves as the DHS Faith-Based Organizations Security Coordinator on security and preparedness matters related to places of worship, faith communities, and faith-based organizations. The Council consists of members who are: faith-based organization security officials; faith-based organization leaders; faith leaders; state and local public safety, law enforcement, and emergency management leaders; and a representative from the Department of Justice or Federal Bureau of Investigation.

The Secretary has requested that the FBSAC form new subcommittees to study and provide recommendations in the following critical areas for the Department:

1. Countering Transnational Repression (TNR), providing recommendations on how DHS can partner with faith-based organizations to develop a strategy to protect faith-based community stakeholders from incidents of TNR; provide process recommendations that faith-based leaders and security professionals can implement to inform faith-based communities about ongoing TNR threats and resources; an effective way to encourage faith-based communities to report TNR threats; and assessments for faith-based leaders and security professional on how well safety and security resources are working in terms of community utilization and effective mitigation of TNR incidents.

2. Countering and responding to Targeted Violence and Terrorism, providing recommendations on how DHS can partner with faith-based organizations to survey existing multi-faith initiatives nationwide to establish a “best practices toolkit” on how faith-based organizations and institutions can build resiliency against threats of targeted violence and terrorism; examples of faith-based entities that have prevented targeted violence and terrorism utilizing safety and security resources; best practices from those examples that other faith communities can adopt; examples of how faith communities utilized federal government resources in the immediate aftermath and long-term; and avenues for DHS to assist with community building to increase resilience across faith groups in the event of an act of targeted violence.

Schedule: The subcommittees findings and recommendations will be submitted to the FBSAC for its deliberation and vote during a public meeting within 150 days of January 5, 2024.

Dated: January 18, 2024.
Sameer Hossain,
Designated Federal Officer, Faith-Based Security Advisory Council, U.S. Department of Homeland Security.

[FR Doc. 2024-01959 Filed 1-31-24; 8:45 am]

BILLING CODE 9112-FN-P